DEPARTMENT OF TRANSPORTATION

Federal Aviation Administration

14 CFR Part 39

[Docket No. FAA-2012-0427; Directorate Identifier 2011-NM-202-AD; Amendment 39-17233; AD 2012-21-17]

RIN 2120-AA64

Airworthiness Directives; Airbus Airplanes

AGENCY: Federal Aviation Administration (FAA), Department of Transportation (DOT).

ACTION: Final rule.

SUMMARY: We are adopting a new airworthiness directive (AD) for certain Airbus Model A320-214 and -232 airplanes. This AD was prompted by reports that medium-head fasteners were installed in lieu of shear-head fasteners on a certain upper panel, which manufacturer fatigue and damage tolerance analyses demonstrated could have an effect on panel fatigue life. This AD requires repetitive inspections for cracking of certain fasteners, and repairs if necessary. We are issuing this AD to detect and correct such cracking, which could result in the loss of structural integrity of the airplane.

DATES: This AD becomes effective December 5, 2012.

The Director of the Federal Register approved the incorporation by reference of a certain publication listed in this AD as of December 5, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. That NPRM was published in the Federal Register on May 8, 2012 (77 FR 26996). That NPRM proposed to correct an unsafe condition for the specified products. The MCAI states:

A problem was reported during the installation of upper panels on Frame 35 in Airbus A320 final assembly line. Investigations revealed that medium head fasteners, Part Number (P/N) EN6114V3, were installed in lieu of shear head fasteners, P/N ASNA2657V3 and ASNA2043V3, which were previously used. Installation of these medium head fasteners leads to a deeper countersink in the panel. Fatigue and damage tolerance analyses were performed, the results of which demonstrated that this installation could have a fatigue impact on two rows of fasteners between stringers (STGR) 5 and 6, and indicated the need for a specific inspection in this area.

This condition, if not detected and corrected, could impair the structural integrity of the affected aeroplanes.

For the reasons described above, this [European Aviation Safety Agency (EASA)] AD requires repetitive special detailed [high frequency eddy current] inspections [for cracking] of the affected fasteners and, depending on findings, the accomplishment of associated corrective actions [repair].

You may obtain further information by examining the MCAI in the AD docket.

Comments

We gave the public the opportunity to participate in developing this AD. We have considered the comments received.

Support for the NPRM (77 FR 26996, May 8, 2012)

Mr. Jason Aldrich stated that it appears from the analysis gathered that the repairs/modifications (proposed by the NPRM (77 FR 26996, May 8, 2012)) could significantly reduce potential damage to the airplane, which would directly result in improved safety for persons.

Request To Clarify Repair Approval

Airbus requested that we revise paragraph (h) of the NPRM (77 FR 26996, May 8, 2012) to clarify that any Repair Approval Sheet (RAS) approved under authority of Airbus Design Organization Approval (DOA) number EASA 21J.031 is acceptable as a repair method for the EASA or its delegated agent.

We disagree to change the AD because a change is not necessary. Paragraph (h) of the AD allows repairs approved by EASA or its delegated agent. We understand that Airbus has discretion to provide repair to their operators that meets the certification basis of the airplane and mitigates the unsafe condition addressed in the AD. We have not changed the AD in this regard.

Request for Terminating Action

Airbus requested that we allow a repair performed according to the proposed requirements in paragraph (h) of the NPRM (77 FR 26996, May 8, 2012) as terminating action, as stated in paragraph (3) of EASA Airworthiness Directive 2011-0176, dated September 13, 2011.

We disagree to allow repairs as terminating action in this AD. The action identified by EASA in its AD is not necessarily terminating action. Under the provision of paragraph (i) of this AD, we will consider requests for approval of an alternative method of compliance (AMOC) if sufficient data are submitted to substantiate that a proposed repair meets an acceptable level of safety as terminating action for the repetitive inspections. We have not changed the AD in this regard.

Conclusion

We reviewed the available data, including the comments received, and determined that air safety and the public interest require adopting the AD as proposed, except for minor editorial changes. We have determined that these minor changes:

• Are consistent with the intent that was proposed in the NPRM (77 FR 26996, May 8, 2012) for correcting the unsafe condition; and

• Do not add any additional burden upon the public than was already proposed in the NPRM (77 FR 26996, May 8, 2012).

Costs of Compliance

We estimate that this AD will affect 44 products of U.S. registry. We also estimate that it will take about 3 work-hours per product to comply with the basic requirements of this AD. The average labor rate is $85 per work-hour. Based on these figures, we estimate the cost of this AD to the U.S. operators to be $11,220, or $255 per product.

We have received no definitive data that would enable us to provide cost estimates for the on-condition actions specified in this AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 26996, May 8, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-21-17 Airbus: Amendment 39-17233. Docket No. FAA-2012-0427; Directorate Identifier 2011-NM-202-AD.

(a) Effective Date

This airworthiness directive (AD) becomes effective December 5, 2012.

(b) Affected ADs

None.

(c) Applicability

This AD applies to Airbus Model A320-214 and -232 airplanes; certificated in any category; manufacturer serial numbers 3456, 3503, 3516, 3529, 3591, 3597, 3611, 3631, 3696, 3698, 3714, 3719, 3775, 3777, 3780, 3782, 3786, 3797, 3805, 3812, 3870, 3907, 3909, 3913, 3922, 3929, 3946, 3953, 3975, 3979, 3991, 4010, 4012, 4014, 4027, 4034, 4043, 4046, 4064, 4065, 4084, 4093, 4094, and 4097.

(d) Subject

Air Transport Association (ATA) of America Code 53, Fuselage.

(e) Reason

This AD was prompted by reports that medium-head fasteners were installed in lieu of shear-head fasteners on a certain upper panel, which manufacturer fatigue and damage tolerance analyses demonstrated could have an effect on panel fatigue life. We are issuing this AD to detect and correct such cracking, which could result in the loss of structural integrity of the airplane.

(f) Compliance

You are responsible for having the actions required by this AD performed within the compliance times specified, unless the actions have already been done.

(g) Repetitive Inspection

Before the accumulation of 35,900 total flight cycles or 88,100 total flight hours, whichever occurs first: Do a high frequency eddy current inspection for cracking of the two rows of six fasteners at frame 35 between stringers 5 and 6 on the left and right sides, in accordance with the Accomplishment Instructions of Airbus Service Bulletin A320-53-1244, excluding Appendix 1, dated March 17, 2011. Repeat the inspection thereafter at intervals not to exceed 28,100 flight cycles or 56,300 flight hours, whichever occurs first.

(h) Corrective Action

If any crack is detected during any inspection required by paragraph (g) of this AD: Before further flight, repair the crack using a method approved by either the Manager, International Branch, ANM-116, Transport Airplane Directorate, FAA; or the European Aviation Safety Agency (EASA) or its delegated agent.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI EASA Airworthiness Directive 2011-0176, dated September 13, 2011; and Airbus Service Bulletin A320-53-1244, excluding Appendix 1, dated March 17, 2011; for related information.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A320-53-1244, excluding Appendix 1, dated March 17, 2011.

(ii) Reserved.

(3) For service information identified in this AD, contact Airbus SAS-EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 16, 2012.
John P. Piccola,
Acting Manager, Transport Airplane Directorate, Aircraft Certification Service.

[FR Doc. 2012-26198 Filed 10-30-12; 8:45 am]

BILLING CODE 4910-13-P